DEPARTMENT OF HEALTH AND HUMAN SERVICES

Centers for Medicare & Medicaid Services

[Document Identifiers CMS-10123 and 10124, CMS-10147, CMS-10252, CMS-10305 and CMS-R-268]

Agency Information Collection Activities: Proposed Collection; Comment Request

AGENCY: Centers for Medicare & Medicaid Services, HHS.

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments must be received by August 12, 2014.

ADDRESSES: When commenting, please reference the document identifier or OMB control number (OCN). To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number ____, Room C4-26-05, 7500 Security Boulevard, Baltimore, Maryland 21244-1850.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION:

Contents

This notice sets out a summary of the use and burden associated with the following information collections. More detailed information can be found in each collection's supporting statement and associated materials (see ADDRESSES).

CMS-10123 and 10124 Fast Track Appeals Notices: NOMNC/DENC

CMS-10147 Medicare Prescription Drug Coverage and Your Rights

CMS-10252 Data Use Agreement (DUA) Certificate of Disposition (COD) for Data Acquired from the Centers for Medicare & Medicaid Services

CMS-10305 Medicare Part C and Part D Data Validation

CMS-R-268 Survey Tool for www.medicare.gov and www.cms.hhs.gov

Under the Paperwork Reduction Act (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Type of Information Collection Request: Extension of a currently approved collection; Title of Information Collection: Fast Track Appeals Notices: NOMNC/DENC; Use: Providers shall deliver a Notice of Medicare (Provider) Non-Coverage (NOMNC) to beneficiaries/enrollees no later than two days prior to the end of Medicare-covered services in skilled nursing facilities, home health agencies, comprehensive outpatient rehabilitation facilities, and hospices. Beneficiaries, enrollees or both beneficiaries and enrollees will use this information to determine whether they want to appeal the service termination to their Quality Improvement Organization (QIO). If the beneficiaries, enrollees or both beneficiaries decide to appeal, the Medicare provider or health plan will send the QIO and appellant a Detailed Explanation of Non-Coverage (DENC) detailing the rationale for the termination decision.

Form Number: CMS-10123 and 10124 (OMB control number: 0938-0910); Frequency: Occasionally; Affected Public: Private sector—Business or other for-profits and Not-for-profit institutions; Number of Respondents: 24,915; Total Annual Responses: 5,347,980; Total Annual Hours: 927,901. (For policy questions regarding this collection contact Janet Miller at 404-562-1799.)

2. Type of Information Collection Request: Extension of a currently approved collection; Title of Information Collection: Medicare Prescription Drug Coverage and Your Rights; Use: Through the delivery of this standardized notice, Part D plan sponsors' network pharmacies are in the best position to inform enrollees (at the point of sale) about how to contact their Part D plan if their prescription cannot be filled and how to request an exception to the Part D plan's formulary. The notice restates certain rights and protections related to the enrollees Medicare prescription drug benefits, including the right to receive a written explanation from the drug plan about why a prescription drug is not covered.

Form Number: CMS-10147 (OMB control number: 0938-0975); Frequency: Occasionally; Affected Public: Private sector—Business or other for-profits; Number of Respondents: 56,000; Total Annual Responses: 37,620,000; Total Annual Hours: 626,749. (For policy questions regarding this collection contact Kathryn M. Smith at 410-786-7623.)

3. Type of Information Collection Request: Extension of a currently approved collection; Title of Information Collection: Data Use Agreement (DUA) Certificate of Disposition (COD) for Data Acquired from the Centers for Medicare & Medicaid Services; Use: The Data Use Agreement (DUA) Certificate of Disposition (COD) is required to close out the release of the data under the DUA and to ensure the data are destroyed and not used for another purpose without written authorization from CMS. The Health Insurance Portability and Accountability Act (HIPAA) of 1996, § 1173(d) (Security Standards for Health Information) requires CMS to protect Personally Identifiable Information (PII). Additionally, the Federal Information Security Management Act (FISMA) of 2002, § 3544(b) (Federal Agency Responsibilities—Agency Program) also requires CMS to develop policies and procedures for the protection and destruction of sensitive data to include PII.

Form Number: CMS-10252 (OMB control number: 0938-1046); Frequency: Biennial; Affected Public: Private Sector—Business or other for-profits and Not-for-profit institutions; Number of Respondents: 500; Total Annual Responses: 1,000; Total Annual Hours: 84. (For policy questions regarding this collection contact Sharon Kavanagh at 410-786-5441.)

4. Type of Information Collection Request: Revision of a currently approved collection; Title of Information Collection: Medicare Part C and Part D Data Validation; Use: Organizations contracted to offer Medicare Part C and Part D benefits are required to report data to us on a variety of measures. For the data to be useful for monitoring and performance measurement, the data must be reliable, valid, complete, and comparable among sponsoring organizations. To meet this goal, we have developed reporting standards and data validation specifications with respect to the Part C and Part D reporting requirements. These standards provide a review process for Medicare Advantage Organizations, Cost Plans, and Part D sponsors to use to conduct data validation checks on their reported Part C and Part D data. The currently approved information collection is being revised to reflect decreases in the number of reporting sections being validated and an increase in the average number of data elements per reporting section for 2015-2017.

Form Number: CMS-10305 (OMB control number: 0938-1115); Frequency: Yearly; Affected Public: Private sector—Business or other for-profits; Number of Respondents: 706; Total Annual Responses: 706; Total Annual Hours: 202,578. (For policy questions regarding this collection contact Terry Lied at 410-786-8973.)

5. Type of Information Collection Request: Extension of a currently approved collection; Title of Information Collection: Survey Tool for www.medicare.gov and www.cms.hhs.gov; Use: The Balanced Budget Act of 1997 states that the Secretary of Health and Human Services shall maintain a Web site to provide information about CMS activities, programs and topics related to its services. The present request is for OMB authorization to collect data on the reactions of users of the Web sites through the survey tool. We will use the data to improve the Web sites so that they can best serve the needs of their users. Information collected from the survey will be used to make improvements to the sites to make them more user friendly.

Form Number: CMS-R-268 (OMB control number: 0938-0756); Frequency: Annual; Affected Public: Individuals or households; Number of Respondents: 7,000; Total Annual Responses: 4,900; Total Annual Hours: 817. (For policy questions regarding this collection contact Kymeiria Ingram at 410-786-8431.)

Dated: June 10, 2014.
Martique Jones,
Deputy Director, Regulations Development Group, Office of Strategic Operations and Regulatory Affairs.

[FR Doc. 2014-13863 Filed 6-12-14; 8:45 am]

BILLING CODE 4120-01-P